SECURITIES AND EXCHANGE COMMISSION

[Release No. 35-27420]

Filings Under the Public Utility Holding Company Act of 1935, as Amended (“Act”)

June 19, 2001.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by July 13, 2001, to the Secretary, Securities and Exchange Commission, Washington, D.C. 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After July 13, 2001, the application(s) and/or declaration(s), as filed or as amended, may be granted and/or permitted to become effective.

Cinergy Services, Inc., et al. (70-9879)

Cinergy Services, Inc. (“Services”), a wholly owned service company subsidiary of Cinergy Corporation (“Cinergy”), a registered public utility holding company; The Cincinnati Gas & Electric Company (“CG&E”), an electric and gas utility subsidiary company of Cinergy; CG&E's utility subsidiaries, The Union Light, Heat and Power Company (“ULH&P”), and electric and gas utility company, Lawrenceburg Gas Company (“Lawrenceburg”), a gas utility company, and Miami Power Corporation (“Miami”), an electric utility company; CG&E's nonutility subsidiaries, KO Transmission Company (“KO”), and Tri-State Improvement Company (“Tri-State”), all located at 130 East Fourth Street, Cincinnati, Ohio 45202; and PSI Energy, Inc. (“PSA”), 1000 East Main Street, Plainfield, Indiana 46168, an electric utility subsidiary company of Cinergy (“Applicants”), have filed an application-declaration under sections 6(a), 7, 9(a) and 10 of the Act and rule 54 under the Act.

By order dated May 30, 1997 (HCAR No. 26723) (“1997 Order”), the Commission authorized Applicants, through December 31, 2002, to undertake a short-term debt financing program. Among other things, Applicants were authorized to continue to operate a system money pool (“Money Pool”) to provide short-term cash and working capital requirements for associate companies, other than Cinergy.¹ The 1997 Order authorized the utility subsidiaries, ULH&P, Lawrenceburg, Miami and PSI (“Utility Subsidiaries”),² to make loans to and incur borrowings from each other under the terms of the Money Pool. The 1997 Order also authorized Cinergy, CG&E, Services, KO and Tri-State to make loans to ULH&P, Lawrenceburg, Miami and PSI through the Money Pool. Additionally, ULH&P, Lawrenceburg, Miami and PSI were authorized to incur short-term bank borrowings from third parties and PSI was also authorized to issue and sell commercial paper.³

¹ By Commission order dated August 25, 1995 (HCAR No. 26362) (“Money Pool Order”), Cinergy was authorized to organize and operate the Money Pool. The Applicants do not propose to change any of the terms and conditions governing its operation from those approved in the Money Pool Order.

² While CG&E is a utility subsidiary and will be treated like the other utilities for all purposes under the Money Pool, it is exempt from the filing requirements of sections 6(a) and 7 under the Act, under rule 52(a), as discussed below.

³ It is stated that the short-term borrowing authority requested in the application-declaration for ULH&P, Lawrenceburg, Miami and PSI (“Nonexempt Subsidiaries”) is not subject to state jurisdiction. Therefore, the filing exemption provided by rule 52(a) under the Act is not available to these companies. However, the Public Utilities Commission of Ohio does have authority over short-term borrowings by CG&E, which, therefore, may issue short-term debt under the exemption provided by rule 52(a).

Under the 1997 Order, the maximum allowable outstanding principal amount of short-term borrowing from all available sources was $50 million for ULH&P; $3 million for Lawrenceburg; $100,000 for Miami; and $400 million for PSI. Applicants state that these debt limitations established under the 1997 Order are no longer appropriate in light of current capital requirements. Therefore, Applicants propose to supersede the 1997 Order by replacing the short-term debt finance program and extending the authorization period through June 30, 2006.

Specifically, the Nonexempt Subsidiaries propose to make loans to and incur borrowings from each other the Money Pool; Services, CG&E, KO and Tri-State and KO proposes to make loans to the Nonexempt Subsidiaries; the Nonexempt Subsidiaries propose to incur short-term borrowings from banks or other financial institutions; and PSI proposes to issue and sell commercial paper. As proposed, the maximum allowable outstanding principal amount of short-term borrowings from all available sources will not exceed $65 million for ULH&P; $5.5 million for Lawrenceburg; $100,000 for Miami; and $600 million for PSI.

The Nonexempt Subsidiaries propose to borrow short-term funds from banks and other financial institutions through formal or informal credit facilities. Bank borrowings would be evidenced by promissory notes, each of which would be issued on or before June 30, 2006 and would mature no later than one year from the date of issuance, except in the case of borrowings by ULH&P, which would mature no later than two years from the date of issuance. The notes will bear interest at a rate no higher than the greater of: (1) 400 basis points over the comparable London interbank offered rate or (2) a rate that is consistent with similar securities of comparable credit quality and maturities issued by other companies. The Nonexempt Subsidiaries may be required to pay fees to the lender not to exceed 100 basis points per annum on the total commitment; and, except for borrowings on uncommitted credit lines, may be prepayable in whole or in part, with or without a premium.

PSI proposes to issue and sell commercial paper at market rates (either on an interest bearing or discount basis) with varying maturities not to exceed 270 days. The commercial paper will be in the form of book-entry unsecured promissory notes with varying denominations of not less than $25,000 each. In commercial paper sales effected on a discount basis, the purchasing dealer may re-offer the commercial paper at a rate less that the rate to PSI. The discount rate to dealers will not exceed the maximum discount rate per annum prevailing at the date of issuance for commercial paper of comparable quality and the same maturity. The purchasing dealer will re-offer the commercial paper in such a manner as not to constitute a public offering within the meaning of the Securities Act of 1933.

For the Commission, by the Division of Investment Management, pursuant to delegated authority.
Margaret H. McFarland,
Deputy Secretary.

[FR Doc. 01-15848 Filed 6-22-01; 8:45 am]

BILLING CODE 8010-01-M